DEPARTMENT OF COMMERCE

National Oceanic and Atmospheric Administration

[RTID 0648-XC922]

Endangered Species; File No. 27294

AGENCY: National Marine Fisheries Service (NMFS), National Oceanic and Atmospheric Administration (NOAA), Commerce.

ACTION: Notice; receipt of application.

SUMMARY: Notice is hereby given that Nicole Phillips, Ph.D., The University of Southern Mississippi, Department of Biological Sciences, 118 College Drive #5018, Hattiesburg, MS 39406 (File No. 27294) has applied in due form for a permit to receive, collect, and import sawfish samples for purposes of scientific research.

DATES: Written, telefaxed, or emailed comments must be received on or before May 22, 2023.

ADDRESSES: The application request and related documents are available for review by selecting “Records Open for Public Comment” from the Features box on the Applications and Permits for Protected Species (APPS) home page, https://apps.nmfs.noaa.gov, and then selecting File No. 27294 from the list of available applications. These documents are also available upon written request via email to NMFS.Pr1Comments@noaa.gov.

Written comments on this application should be submitted via email to NMFS.Pr1Comments@noaa.gov. Please include File No. 27294 in the subject line of the email comment.

Those individuals requesting a public hearing should submit a written request via email to NMFS.Pr1Comments@noaa.gov. The request should set forth the specific reasons why a hearing on this application would be appropriate.

FOR FURTHER INFORMATION CONTACT: Malcolm Mohead or Jennifer Skidmore at (301) 427-8401.

SUPPLEMENTARY INFORMATION: The subject permit is requested under the authority of the Endangered Species Act of 1973, as amended (16 U.S.C. 1531 et seq.) and the regulations governing the taking, importing, and exporting of endangered and threatened species (50 CFR parts 222-226).

The applicant (Dr. Phillips) is requesting authorization to receive, collect, and import tissue samples of five species of listed sawfish, including smalltooth sawfish (Pristis pectinata), largetooth sawfish (P. pristis), green sawfish (P. zijsron), dwarf sawfish (P. clavata), and narrow sawfish (Anoxypristis cuspidate) to generate genetic data of historic sawfish populations from tissue samples “collected” by researchers from archived rostra or those received opportunistically from saws with known location data held in museums, educational, and private collections. The goals of research are to: (1) assess whether there has been a recent loss of genetic diversity in sawfishes globally, (2) evaluate the long-term survival outlook for sawfishes, and (3) identify locations harboring unique genetic variation which may warrant prioritization in future conservation plans. Tissue samples may include pre-act or post-act Endangered Species Act (ESA) specimens and will be collected and received from sawfish specimens sourced in U.S. public and private collections or imported from museums and collaborators overseas for a period of 5 years. Up to 800 tissue samples of sawfish specimens will be imported from all noted species annually. As appropriate, samples may also be exported for analysis or returned to former holders as unused samples. Genetic data will be generated for the historic tissue samples and compared to genetic datasets for contemporary populations in Australia, the USA, Papua New Guinea, and Brazil. The requested duration of the permit is 5 years.

Dated: April 18, 2023.
Julia M. Harrison,
Chief, Permits and Conservation Division, Office of Protected Resources, National Marine Fisheries Service.

[FR Doc. 2023-08465 Filed 4-20-23; 8:45 am]

BILLING CODE 3510-22-P